OFFICE OF THE UNITED STATES TRADE REPRESENTATIVE

Notice of Proposed Changes to the Slate of Industry Trade Advisory Committees

AGENCY: Office of the United States Trade Representative.

ACTION: Notice and request for comments.

SUMMARY: The United States Trade Representative (Trade Representative) and the Secretary of Commerce (Secretary) plan to establish a new four-year charter term for the Industry Trade Advisory Committees (ITACs) beginning in February 2018. As part of the re-chartering process, the Secretary and the Trade Representative are proposing changes to the current slate of ITACs and invite interested parties to submit their view on these changes.

DATES: The deadline for submission of written comments is February 5, 2018 at midnight EST.

ADDRESSES: Submit comments electronically via email to FRNCommentsITAC@trade.gov.

FOR FURTHER INFORMATION CONTACT: Gregory M. Walters, Assistant United States Trade Representative for Intergovernmental Affairs and Public Engagement at Gregory.M.Walters@ustr.eop.gov or (202) 395-2558. You can find additional information about the ITACs on the International Trade Administration website at www.trade.gov/itac.

SUPPLEMENTARY INFORMATION:

I. Background

Section 135 of the Trade Act of 1974, as amended (19 U.S.C. 2155), establishes a private-sector trade advisory system to ensure that U.S. trade policy and trade negotiation objectives adequately reflect U.S. commercial and economic interests. Section 135(c)(2) (19 U.S.C. 2155(c)(2)) directs the President to establish sectoral or functional trade advisory committees as appropriate, comprised of representatives of all industry, labor, agricultural, and services interests (including small business interests) in the sector or functional area. These committees provide detailed policy and technical advice, information, and recommendations regarding trade barriers, negotiation of trade agreements, and implementation of existing trade agreements affecting industry sectors, and perform other advisory functions relevant to U.S. trade policy matters as requested. In organizing such committees, the Trade Representative and the relevant Secretary are to consult with interested private organizations and to consider “(i) patterns of actual or potential competition between United States industry and agriculture and foreign enterprise in international trade, (ii) the character of the nontariff barriers and other distortions affecting such competition, (iii) the necessity for reasonable limits on the number of such advisory committees, (iv) the necessity that each committee be reasonably limited in size, and (v) in the case of each sectoral committee, that the product lines covered by each committee be reasonably related.”

Pursuant to this authority, the Secretary and the Trade Representative established the ITACs to provide detailed policy and technical advice, information, and recommendations to the Secretary and the Trade Representative on trade policy matters including: (1) Negotiating objectives and bargaining positions before entering into trade agreements; (2) the impact of the implementation of trade agreements on the relevant sector; (3) matters concerning the operation of any trade agreement once entered into; and (4) other matters arising in connection with the development, implementation, and administration of the trade policy of the United States. The nonpartisan, industry input provided by the ITACs is important in developing unified trade policy objectives and positions when the United States negotiates and implements trade agreements. The ITACs address market-access problems, trade barriers, tariffs, discriminatory foreign procurement practices, and information, marketing, and advocacy needs of their industry sector. With limited statutory exceptions, the ITACs are subject to the provisions of the Federal Advisory Committee Act. See 19 U.S.C. 2155(f); 5 U.S.C. App. II.

The current ITACs expire in February 2018, and the Secretary and the Trade Representative intend to renew the ITACs as described below for a new four-year charter terms for the ITACs to begin in February 2018 and end in February 2022.

For the 2014-2018 charter term, the Secretary and Trade Representative chartered: Thirteen sectoral ITACs advising on issues that affect specific sectors of U.S. industry; three ITACs advising on crosscutting, functional issues that affect all industry sectors and include specifically appointed members along with non-voting members from the industry specific ITACs to represent a broad range of industry perspectives; and a Committee of Chairs of the ITACs as follows:

Industry Trade Advisory Committees on:

(ITAC 1) Aerospace Equipment

(ITAC 2) Automotive Equipment and Capital Goods

(ITAC 3) Chemicals, Pharmaceuticals, Health/Science Products and Services

(ITAC 4) Consumer Goods

(ITAC 5) Distribution Services

(ITAC 6) Energy and Energy Services

(ITAC 7) Forest Products

(ITAC 8) Information and Communications Technologies, Services, and Electronic Commerce

(ITAC 9) Building Materials, Construction, and Nonferrous Metals

(ITAC 10) Services and Finance Industries

(ITAC 11) Small and Minority Business

(ITAC 12) Steel

(ITAC 13) Textiles and Clothing

(ITAC 14) Customs Matters and Trade Facilitation

(ITAC 15) Intellectual Property Rights

(ITAC 16) Standards and Technical Trade Barriers and a Committee of Chairs of the Industry Trade Advisory Committees.

For the 2018-2022 charter term, after considering the statutory factors listed above, the Secretary and the Trade Representative propose to streamline the ITACs as follows based on the nature of the U.S. industry in various sectors, the level of interest in serving on an ITAC (using the number of members and applications for appointment during the 2014-2018 charter terms), the level of activity of each ITAC (using the number of meetings and recommendations submitted during the 2014-2018 charter terms), and constraints on the resources to support and engage with the ITACs.

• Combining the current ITACs on Distribution Services and on Services and Finance Industries into one ITAC on Services.

• Combining the current ITACs on Forest Products and on Building Materials, Construction, and Nonferrous Metals into one ITAC on Forest Products, Building Materials, Construction, and Nonferrous Metals.

• Changing the name of the ITAC on Information and Communications Technologies, Services, and Electronic Commerce to the ITAC on Digital Economy to reflect the innovation in and full scope of that industry sector.

• Discontinuing the Committee of Chairs of the ITACs to both preserve staff resources and to ensure that all ITAC members receive relevant, timely, and unfiltered information directly from appropriate government staff.

This streamlining would result in eleven sectoral ITACs and three functional ITACs for the new four-year charter term as follows:

Industry Trade Advisory Committees on:

(ITAC 1) Aerospace Equipment

(ITAC 2) Automotive Equipment and Capital Goods

(ITAC 3) Chemicals, Pharmaceuticals, Health/Science Products and Services

(ITAC 4) Consumer Goods

(ITAC 5) Forest Products, Building Materials, Construction and Nonferrous Metals

(ITAC 6) Energy and Energy Services

(ITAC 7) Steel

(ITAC 8) Digital Economy

(ITAC 9) Small and Minority Business

(ITAC 10) Services

(ITAC 11) Textiles and Clothing

(ITAC 12) Customs Matters and Trade Facilitation

(ITAC 13) Intellectual Property Rights

(ITAC 14) Standards and Technical Trade Barriers

III. Request for Comments

In accordance with Section 135(c)(2)(A) (19 U.S.C. 2155(c)(2)) of the Trade Act, we invite written comments on the proposed changes to the slate of ITACs for the 2018-2022 charter term.

Gregory M. Walters,
Assistant United States Trade Representative for Intergovernmental Affairs and Public Engagement, Office of the United States Trade Representative.

[FR Doc. 2018-01125 Filed 1-22-18; 8:45 am]

BILLING CODE 3290-F8-P